DEPARTMENT OF DEFENSE

Department of the Army

[Docket ID USA-2022-HQ-0002]

Proposed Collection; Comment Request

AGENCY: Department of the Army, Department of Defense (DoD).

ACTION: 60-Day information collection notice.

SUMMARY: In compliance with the Paperwork Reduction Act of 1995, the Department of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 12, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Deputy Chief of Staff for Personnel, 300 Army Pentagon, ATTN: Mr. Steve Shappell, or call 703-693-2124.

SUPPLEMENTARY INFORMATION: Title; Associated Form; and OMB Number: Army Junior/Senior Reserve Officers' Training Corps and National Defense Cadet Corps Application and Amendment Forms; DA Form 3126, DA Form 3126-1, DA Form 918B; OMB Control Number 0702-0021.

Needs and Uses: The Junior Reserve Officer's Training Corps (JROTC) and the National Defense Cadet Corps (NDCC) are citizenship programs designed to motivate young people to be better citizens. Educational institutions that desire to host a JROTC or NDCC unit may apply using DA Form 3126 and 3126-1, respectively. The program provides unique education opportunities for young citizens through their participation in a Federally sponsored curriculum while pursuing their civilian education. Students develop citizenship, leadership, communication skills, an understanding of the role of the U.S. army in support of national objectives, and an appreciation for the importance of physical fitness. Title 10, United States Code, Section 2031 and 32 CFR part 542 provide for the establishment of units by the Department of the Army at public and private secondary schools. The Senior Reserve Officer's Training Corps (SROTC) program is hosted by colleges and universities with the intent to identify, recruit, and acquire selected students to serve as commissioned officers in the Regular Army, United States Army Reserve, and the Army National Guard, as well as to provide SROTC Cadets with the basic concepts and principles of military art and science, and a basic understanding of joint and combined operations. DA Form 918B is used by institutions with active SROTC, JROTC, or NDCC units to request and make amendments to their contracts. The forms are prescribed by Army Regulations (AR) 145-1 and 145-2.

Affected Public: Not-for-profit Institutions; State, Local, or, Tribal Government.

Annual Burden Hours: 149.

Number of Respondents: 158.

Responses per Respondent: 1.

Annual Responses: 158.

Average Burden per Response: 56.6 minutes.

Frequency: On occasion.

Dated: February 7, 2022.
Aaron T. Siegel,
Alternate OSD Federal Register Liaison Officer, Department of Defense.

[FR Doc. 2022-03006 Filed 2-10-22; 8:45 am]

BILLING CODE 5001-06-P